DEPARTMENT OF JUSTICE

National Institute of Corrections

Solicitation for a Cooperative Agreement—NIC Cost Containment Online Resource Center Project

AGENCY: National Institute of Corrections, U.S. Department of Justice.

ACTION: Solicitation for cooperative agreement.

SUMMARY: The National Institute of Corrections (NIC) is soliciting proposals from organizations, groups, or individuals to enter into a cooperative agreement for an 18-month project period. The goal of this agreement is the development of a cost containment online resource center. The NIC Cost Containment Online Resource Center (CCORC) will be housed on the NIC Web site and contain materials to assist corrections practitioners with developing and implementing systems-level cost containment strategies. The CCORC will serve as a forum for information exchange and a repository for current, practical evidence-based information about cost containment. The project's four tasks are to (1) compile a guide providing a detailed review of existing evidence-based models, including their strengths, weaknesses, and applicability to correctional agencies, for managing cost containment interventions at the systems level; (2) gather supplemental materials designed to provide concrete and practical strategies for planning, implementing, and sustaining cost containment interventions (The intent is to combine packaged materials with “off-the-shelf” modules that agencies can use to develop workable solutions.); (3) work with the NIC Information Center's Contracting Officer's Technical Representative(COTR), NIC's intermediary with the Information Center, to develop the online site; and (4) coordinate two meetings of a review panel to advise the project early in the development of its products and near the end to evaluate their utility for the corrections field. All expenses for these meetings will be provided out of the funding awarded under this agreement. The two meetings are expected to last one and a half days for up to 10 participants. With the assistance of the recipient, NIC will identify the participants for each meeting. The recipient of this award will assist NIC in locating an appropriate venue and coordinating local arrangements at the site, including meeting rooms and food and beverage services. The recipient will also assist participants in arranging travel and lodging and in reimbursing costs in conformity with Federal guidelines.

With input from NIC, the recipient will prepare each meeting agenda, participant lists, white papers, handouts, and supplementary materials; duplicate them in sufficient quantities; and deliver them to the venue. With input from NIC, the recipient will also supply or arrange for a facilitator and a note taker for each meeting to be paid out of the funding awarded under this agreement.

DATES: Applications must be received by 4 p.m. EDT on Monday, August 30, 2010. Selection of the successful applicant and notification of review results to all applicants will be sent by October 2010.

ADDRESSES: Mailed applications must be sent to Director, National Institute of Corrections, 320 First Street NW., Room 5007, Washington, DC 20534. Applicants are encouraged to use Federal Express, UPS, or similar service to ensure delivery by the due date.

Hand delivered applications should be brought to 500 First Street, NW., Washington, DC 20534. At the front desk, call (202) 307-3106, extension 0 for pickup. Faxed applications will not be accepted. The only electronic applications (preferred) that will be accepted can be submitted via www.grants.gov.

FOR FURTHER INFORMATION: A copy of this announcement can be downloaded from the NIC Web site at www.nicic.gov.

All technical or programmatic questions concerning this announcement should be directed to Dee Halley, Correctional Program Specialist, Research and Evaluation Division, National Institute of Corrections. She can be reached by calling 1-800-995-6423 extension 4-0374 or by e-mail at dhalley@bop.gov.

Required Expertise: Applicant organizations and project teams should be able to demonstrate the capacity to accomplish all four project tasks and have experience with and/or an understanding of correctional operations, assessing cost benefits and effectiveness, and budget planning, development, and management.

Application Requirements: The application should be concisely written, typed double-spaced and reference the NIC Opportunity Number and Title provided in this announcement. The program narrative text is to be limited to 25 double-spaced pages, exclusive of resumes and summaries of experience (do not submit full curriculum vitae). In addition to the program narrative, an application package must include OMB Standard Form 425, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (all OMB Standard Forms are available at www.grants.gov); DOJ/FBOP/NIC Certification Regarding Lobbying, Debarment, Suspension and Other Responsibility Matters; and the Drug-Free Workplace Requirements (available at www.nicic.org/Downloads/PDF/certif-frm.pdf.)

Authority: Public Law 93-415.

Funds Available and Budget Considerations: Up to $150,000 is available for this project, but preference will be given to applicants who provide the most efficient solutions in accomplishing the scope of work. Determination will be made based on best value to the Government, not necessarily the lowest bid. Funds may be used only for the activities that are directly related to the project. This project will be a collaborative venture with the NIC Research and Evaluation Division.

Eligibility of Applicants: An eligible applicant is any state or general unit of local government, private agency, educational institution, organization, individual, or team with expertise in the described areas. Applicants must have demonstrated ability to implement a project of this size and scope.

Review Considerations: Applications received under this announcement will be subject to the NIC Review Process. The criteria for the evaluation of each application will be as follows:

Programmatic (40%)

Are all of the four project tasks adequately discussed and support the overall goal? Is there a clear description of how each project task will be accomplished, including sub-tasks; the strategies to be employed; required staffing; responsible parties, and other required resources? Are there any unique or exceptional approaches, techniques, or design aspects proposed that will enhance the project?

Organizational (35%)

Does the proposed project staff possess the skills, knowledge, and expertise necessary to complete the four project tasks, meeting all of the criteria listed in the solicitation? Does the applicant agency, institution, organization, individual or team have the organizational capacity to complete the project tasks? Are the proposed project management and staffing plans realistic and sufficient to complete the project within the 18-month timeframe?

Project Management/Administration (25%)

Does the applicant identify reasonable objectives, milestones, and measures to track progress? If consultants and/or partnerships are proposed, is there a reasonable justification for their inclusion in the project and a clear structure to ensure effective coordination and supervision? Is the proposed budget realistic, provide sufficient cost detail/narrative, and represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 10PEI40. This number should appear as a reference line in the cover letter, where indicated on Standard Form 424, and outside of the envelope in which the application is sent.

Catalog of Federal Domestic Assistance Number: 16.602.

Executive Order 12372: This program is not subject to the provisions of Executive Order 12372.

Morris L. Thigpen,
Director, National Institute of Corrections.

[FR Doc. 2010-19641 Filed 8-9-10; 8:45 am]

BILLING CODE 4410-36- P